SMALL BUSINESS ADMINISTRATION

Region VI Houston District Advisory Council; Public Meeting

The Small Business Administration Region VI Houston District Advisory Council, located in the geographical area of Houston, Texas, will hold a public meeting at 11:00 a.m. until 3:30 p.m. on Tuesday, December 12, 2000, at Chase's Conference Room (Mezzanine level), 707 Travis Road, Houston, TX 77002, to discuss such matters as may be presented by members, staff of the Small Business Administration, or others present. For further information write or call Myriam Gonzalez, U.S. Small Business Administration, 9301 Southwest Freeway, Suite 550 Houston, Texas 77074; (713) 773-6500 Ext. 254.

Bettie Baca,
Counselor to the Administrator/Public Liaison.

[FR Doc. 00-29761 Filed 11-20-00; 8:45 am]

BILLING CODE 8025-01-P